DEPARTMENT OF TRANSPORTATION

Federal Transit Administration

FY 2011 Discretionary Funding Opportunity; Section 5309 Bus and Bus Facilities Veterans Transportation and Community Living Initiative

AGENCY: Federal Transit Administration (FTA), DOT.

ACTION: FTA Veterans Transportation and Community Living Initiative Competitive Grant Program Funds: Announcement of Project Selections.

SUMMARY: The U.S. Department of Transportation's (DOT) Federal Transit Administration (FTA) announces the selection of projects funded under the Veterans Transportation and Community Living Initiative (VTCLI) discretionary grant program, which was announced in the Section 5309 Discretionary Bus and Bus Facilities Program notice of funding availability on July 27, 2011. The VTCLI grant program makes funds available to local, state and tribal agencies to create or expand One-Call/One-Click Transportation Resource Centers in their communities. These centers will increase the availability of community transportation resources to veterans, service members and military families and improve the accessibility of existing mobility resources and other transportation information to the whole community. Additionally, they will enable closer coordination of existing transportation services to improve customer experiences and overall efficiency. The VTCLI supports the Obama Administration's priority of supporting America's veterans and military families, as well as the objectives of the Federal Interagency Coordinating Council on Access and Mobility. The initiative is a joint effort of the Departments of Defense, Health and Human Service, Labor, Transportation and Veterans Affairs.

FOR FURTHER INFORMATION CONTACT: Successful applicants should contact the appropriate FTA Regional office (Appendix) for specific information regarding applying for the funds. Unsuccessful applicants may contact Erik Weber, Office of Program Management at (202) 366-0705, email: erik.weber@dot.gov, to arrange a proposal debriefing. For general program information on the Veterans Transportation and Community Living Initiative, contact Doug Birnie at (202) 366-1666, email: douglas.birnie@dot.gov, or Erik Weber, both of the Office of Program Management. A TDD is available at 1-(800) 877-8339 (TDD/FIRS).

SUPPLEMENTARY INFORMATION: Veterans Transportation and Community Living Initiative Grant Program: A total of $30 million was initially made available by FTA for the VTCLI program and additional funds were subsequently added, for a total of $34.6 million allocated to the selected projects. In total, 63 applicants requested $52.9 million. Project proposals were evaluated based on the criteria detailed in the July 27, 2011 Notice of Funding Availability. The projects selected and shown in Table 1 will provide mobility choices to veterans, military families and other community members, increasing their awareness of and access to existing community transportation options and enabling them to remain active in their communities. Funds must be used for eligible purposes defined under 49 U.S.C. 5309(b)(3) and 5302(a)(1), and consistent with the competitive announcement of availability of funds and the applicant's proposal. In selecting projects for this program, FTA ensured that an equitable share of the available funds is allocated to projects that are not in urbanized areas.

Project Implementation: So that funds can be obligated expeditiously, grantees selected for competitive discretionary funding should work with their FTA regional office to finalize the grant application in FTA's Transportation Electronic Award Management system (TEAM) for the projects identified in the attached table. In cases where the allocation amount is less than the proposer's requested amount, grantees should work with the regional office to reduce scope or scale the project such that a complete phase or project is accomplished. A discretionary project identification number has been assigned to each project for tracking purposes and must be used in the TEAM application. No projects under the VTCLI have been extended pre-award authority. Additionally, although several projects contained related training, mobility management or infrastructure initiatives, FTA funds may only be used for eligible purposes defined under 49 U.S.C. 5309(b)(3) and 5302(a)(1), as described in FTA Circular 9030.1C, and further limited by the July 27, 2011 Federal Register Notice of Funding Availability. For any VTCLI projects that include lease of space please refer to FTA's guidance on Capital Leases found at http://www.fta.dot.gov/grants/12865.html and in Chapter IV, subparagraph 3.j(2) of FTA Circular 5010.1D. Any projects which proposed to use applicant labor to accomplish capital design and engineering tasks, please refer to FTA's guidance on Force Account labor found in Chapter IV, paragraph 4.d of FTA Circular 5010.1D. Sources of any in-kind match proposed should be discussed with the FTA region to ensure eligibility. All capital procurements undertaken with VTCLI funds must comply with FTA's Third Party Procurement Guidelines found at http://www.fta.dot.gov/legislation_law/12349_8641.html. Any further questions on procurement guidelines should be discussed with the FTA regional office. Post-award reporting requirements include submission of the Financial Federal Report and Milestone reports in TEAM as appropriate (see FTA Circular 5010.1D). FTA will hold an informational webinar for grantees in the near future to discuss the goals and expectations of the VTCLI and address technical aspects of applying for funds. Details about the time and date of the webinar will be posted at http://www.fta.dot.gov/veterans.

The grantee must comply with all applicable Federal statutes, regulations, executive orders, FTA circulars, and other Federal administrative requirements in carrying out the project supported by the FTA grant. By statute the funds allocated in this announcement must be obligated in a grant by September 30, 2014, but since project readiness was a factor in selection, applicants are expected to apply promptly in order to begin implementing the project within twelve months.

Issued in Washington, DC, this 14th day of December 2011.
Peter Rogoff,
Administrator.

Appendix

FTA Regional and Metropolitan Offices
Mary E. Mello, Deputy Regional Administrator, Region 1—Boston, Kendall Square, 55 Broadway, Suite 920, Cambridge, MA 02142-1093, Tel. 617-494-2055. | Robert C. Patrick, Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Anthony Carr, Acting Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2—New York, One Bowling Green, Room 428, New York, NY 10004-1415, Tel. 212-668-2202.
Brigid Hynes-Cherin, Acting Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Washington D.C. Metropolitan Office, 1990 K St NW Suite 510, Washington, DC 20006, Tel: (202) 219-3562.
Yvette Taylor, Regional Administrator, Region 4—Atlanta, 230 Peachtree Street NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North, Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789.

BILLING CODE 4910-57-P

[FR Doc. 2011-32447 Filed 12-16-11; 8:45 am]

BILLING CODE 4910-57-C